DEPARTMENT OF COMMERCE

International Trade Administration

[A-437-804, A-471-806]

Notice of Postponement of Preliminary Determinations of Antidumping Duty Investigations: Sulfanilic Acid from Hungary and Portugal

AGENCY: Import Administration, International Trade Administration, Department of Commerce.

EFFECTIVE DATE: April 12, 2002.

FOR FURTHER INFORMATION CONTACT: Jarrod Goldfeder (Hungary) at (202) 482-0189 or S. Anthony Grasso (Portugal) at (202) 482-3853, Import Administration, International Trade Administration, U.S. Department of Commerce, 14th Street and Constitution Avenue, NW, Washington, D.C. 20230.

SUPPLEMENTARY INFORMATION:

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (April 2001).

Postponement of Preliminary Determinations

On October 26, 2001, the Department published the initiation of the antidumping duty investigations of imports of sulfanilic acid from Hungary and Portugal. See Notice of Initiation of Antidumping Duty Investigations: Sulfanilic Acid from Hungary and Portugal, 66 FR 54214, 54218 (October 26, 2001). The notice of initiation stated that we would make our preliminary determinations for these antidumping duty investigations no later than 140 days after the date of issuance of the initiation (i.e., March 7, 2002). On February 15, 2002, pursuant to section 733(c)(1) of the Act, the Department postponed the preliminary determinations of these antidumping duty investigations by 30 days, or until no later than April 8, 2002. See Notice of Postponement of Preliminary Determinations of Antidumping Investigations: Sulfanilic Acid from Hungary and Portugal, 67 FR 8525 (February 25, 2002).

For the following reasons, we determine that these cases are extraordinarily complicated by reason of the novelty of the issues presented in these investigations and the need for additional time to make the preliminary determinations. First, these cases involve certain complex issues, including sales-below-cost allegations in both investigations. Second, the Department needs more time than that allotted under the current schedule to clarify certain information on the record of these investigations in order to make accurate preliminary determinations. Third, due to the late entry of appearance by the petitioner's counsel in the antidumping duty investigation on sulfanilic acid from Hungary, additional time is needed to ensure that the petitioner can participate fully, in particular by obtaining access to the Hungarian respondent's business proprietary information under an administrative protective order. Finally, we are extending the preliminary determinations for both Hungary and Portugal in order to keep both investigations on identical schedules.

For the reasons identified by the Department, we are postponing the preliminary determinations by an additional 20 days, in accordance with section 733(c)(1) of the Act. We will make our preliminary determinations no later than April 26, 2002.

This notice is published pursuant to sections 733(f) and 777(i) of the Act.

Dated: April 4, 2002
Faryar Shirzad,
Assistant Secretary for Import Administration.

[FR Doc. 02-8959 Filed 4-11-02; 8:45 am]

BILLING CODE 3510-DS-S